OFFICE OF THE UNITED STATES TRADE REPRESENTATIVE

[Docket No. USTR-2014-0019]

2014 Special 301 Out-of-Cycle Review of Kuwait

AGENCY: Office of the United States Trade Representative.

ACTION: Request for written comments.

SUMMARY: In the 2014 Special 301 Report, the Office of the United States Trade Representative (USTR) announced that, in order to monitor progress on specific intellectual property rights (IPR) issues, an Out-of-Cycle Review (OCR) would be conducted for Kuwait. USTR requests written comments from the public concerning any act, policy, or practice that is relevant to the decision regarding whether Kuwait should be identified under Section 182 of the Trade Act of 1974 (Trade Act) (19 U.S.C. 2242). The 2014 Special 301 Report is available at www.ustr.gov.

Deadlines: The deadline for the public, except foreign governments, to submit written comments is Wednesday, October 15, 2014. The deadline for foreign governments to submit written comments is Monday, October 20, 2014.

ADDRESSES: All written comments should be filed electronically via www.regulations.gov, Docket Number USTR-2014-0019, and be consistent with the requirements set forth below. Please specify “2014 Special 301 Out-of-Cycle Review of Kuwait” in the “Type Comment” field.

FOR FURTHER INFORMATION CONTACT: Susan Wilson, Director for Intellectual Property and Innovation, Office of the United States Trade Representative, at Special301@ustr.eop.gov. Please do not file comments at this address. Information on the Special 301 Review is available at www.ustr.gov.

SUPPLEMENTARY INFORMATION:

1. Background

Section 182 of the Trade Act requires USTR to identify countries that deny adequate and effective protection of IPR or deny fair and equitable market access to U.S. persons who rely on intellectual property protection. The provisions of Section 182 are commonly referred to as the “Special 301” provisions of the Trade Act.

Those countries that have the most onerous or egregious acts, policies, or practices and whose acts, policies, or practices have the greatest adverse impact (actual or potential) on relevant U.S. products are to be identified as Priority Foreign Countries. In addition, USTR has created a “Priority Watch List” and a “Watch List” under Special 301 provisions. Placement of a trading partner on the Priority Watch List or Watch List indicates that particular problems exist in that country with respect to IPR protection, enforcement, or market access for persons relying on intellectual property.

An OCR is a tool that USTR uses to encourage progress on IPR issues of concern. It provides an opportunity for heightened engagement with a trading partner to address and remedy such issues. Successful resolution of specific IPR issues of concern or lack of action on that concern can lead to a change in a trading partner's Special 301 status outside of the time frame for the annual Special 301 Review.

In the 2014 Special 301 Report, USTR noted that it would conduct an OCR of Kuwait focusing in particular on the Government of Kuwait's efforts to address deficiencies in both its copyright legislation and its intellectual property enforcement practices. The 2014 Special 301 Report included specific steps that Kuwait would need to take by the conclusion of the OCR to avoid being moved to the Priority Watch List: (1) Introduce amendments to the current copyright legislation that meet international standards; and (2) resume enforcement against both copyright piracy and trademark infringement.

2. Written Comments

a. Requirements for Written Comments

To facilitate the review, written comments should be as detailed as possible and provide all necessary information for identifying and assessing the effect of the acts, policies, and practices of Kuwait relevant to the issues being reviewed in the OCR. Comments should include: Information relating to the status of any amendments that have been introduced to the current copyright legislation of Kuwait; the substance of the amendments, particularly their consistency with international standards; and the change, if any, of the frequency of enforcement actions against copyright and trademark infringement. USTR requests that interested parties provide specific references to laws, regulations, policy statements, executive, presidential or other orders, administrative, court or other determinations that should be factored in the review.

b. Instructions for Submitting Comments

Comments must be in English. To ensure the timely receipt and consideration of comments, USTR strongly encourages commenters to submit comments electronically, using the www.regulations.gov Web site. To submit comments via www.regulations.gov, enter Docket Number USTR-2014-0019 on the home page and click “Search.” The site will provide a search-results page listing all documents associated with this docket. Find the reference to this notice and click on the link entitled “Comment Now!” For further information on using the www.regulations.gov Web site, please consult the resources provided on the site by clicking on “How to use Regulations.gov” at the bottom of the home page under “Help.”

The www.regulations.gov Web site allows users to provide comments by filling in a “Type Comment” field, or by attaching a document using an “Upload File” field. USTR prefers that comments be provided in an attached document. If a document is attached, please type “2014 Out-of-Cycle Review of Kuwait” in the “Type Comment” field. USTR prefers submissions in Microsoft Word (.doc) or Adobe Acrobat (.pdf) format. If the submission is in another file format, please indicate the name of the software application in the “Type Comment” field. File names should reflect the name of the person or entity submitting the comments. Please do not attach separate cover letters to electronic submissions; rather, include any information that might appear in a cover letter in the comments themselves. Similarly, to the extent possible, please include any exhibits, annexes, or other attachments in the same file as the comment itself, rather than submitting them as separate files.

A person requesting that information contained in a comment submitted by that person be treated as confidential business information must certify that such information is business confidential and would not customarily be released to the public by the submitter. In the document, confidential business information must clearly be designated as such; the submission must be marked “BUSINESS CONFIDENTIAL” on the cover page and each succeeding page, and the submission should clearly indicate, via brackets, highlighting, or other means, the specific information that is business confidential. Additionally, the submitter should type “Business Confidential 2014 Out-of-Cycle Review of Kuwait” in the “Type Comment” field. Anyone submitting a comment containing business confidential information must also submit, as a separate submission, a non-business confidential version of the submission, indicating where the business confidential information has been redacted. The filenames of both documents should reflect their status—“BC” for the business confidential version and “P” for the public version. The non-business confidential version will be placed in the docket at www.regulations.gov and be available for public inspection.

As noted, USTR strongly urges commenters to submit comments through www.regulations.gov. Any alternative arrangements must be made in advance of transmitting a comment and in advance of the relevant deadline by contacting USTR at Special301@ustr.eop.gov.

3. Inspection of Comments

Comments received will be placed in the docket and open to public inspection pursuant to 15 CFR 2006.13, except business confidential information exempt from public inspection in accordance with 15 CFR 2006.15. Comments may be viewed free of charge by visiting www.regulations.gov and entering Docket Number USTR-2014-0019 in the “Search” field on the home page.

Susan F. Wilson,
Director for Intellectual Property and Innovation.

[FR Doc. 2014-23763 Filed 10-3-14; 8:45 am]

BILLING CODE 3290-F4-P